NATIONAL AERONAUTICS AND SPACE ADMINISTRATION

[Notice 01-144]

Notice; Correction

SUMMARY: In the Federal Register issue of Tuesday, October 23, 2001 (Volume 66, No. 205), pg. 53640, Notice [01-130], make the following correction: “Dates: All comments should be submitted on or before November 23, 2001” should read “Dates: All comments should be submitted on or before December 23, 2001.”

FOR FURTHER INFORMATION CONTACT: Ms. Nancy Kaplan, NASA Reports Officer, (202) 358-1372.

Title: Property Management and Controls, Grants.

OMB Number: 2700-0047.

Type of Review: Extension.

David B. Nelson,
Deputy Chief Information Officer, Office of the Administrator.

[FR Doc. 01-28848 Filed 11-19-01; 8:45 am]

BILLING CODE 7510-01-P